DEPARTMENT OF AGRICULTURE

Natural Resources Conservation Service

[Docket No. NRCS-2021-0004]

Proposed Revisions to the National Handbook of Conservation Practices for the Natural Resources Conservation Service

AGENCY: Natural Resources Conservation Service (NRCS), U.S. Department of Agriculture (USDA).

ACTION: Notice of availability; request for comment.

SUMMARY: NRCS is giving notice that it intends to issue a series of revised conservation practice standards in the National Handbook of Conservation Practices (NHCP). NRCS is also giving the public an opportunity to provide comments on specified conservation practice standards in NHCP.

DATES: Comment Date: We will consider comments that we receive by February 18, 2022.

ADDRESSES: We invite you to submit comments on this notice. You may submit comments through the:

• Federal eRulemaking Portal: Go to https://www.regulations.gov and search for docket ID NRCS-2021-0004. Follow the instructions for submitting comments.

• Mail, or Hand Delivery: Mr. Clarence Prestwich, National Agricultural Engineer, Conservation Engineering Division, NRCS, USDA, 1400 Independence Avenue, South Building, Room 4636, Washington, DC 20250. In your comment, specify the docket ID NRCS-2021-0004.

All comments will be available on https://www.regulations.gov.

The copies of the proposed revised standards are available through https://www.regulations.gov by accessing Docket No. NRCS-2021-0004. Alternatively, the proposed revised standards can be downloaded or printed from https://go.usa.gov/TXye.

FOR FURTHER INFORMATION CONTACT: Mr. Clarence Prestwich; telephone: (202) 720-2972; or email: clarence.prestwich@usda.gov.

SUPPLEMENTARY INFORMATION:

Background

NRCS is planning to revise the conservation practice standards in the NHCP. This notice provides an overview of the planned changes and gives the public an opportunity to provide comments on the specific conservation practice standards that NRCS is changing.

NRCS State Conservationists who choose to adopt these practices in their States will incorporate these practices into the respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

Revisions to the National Handbook of Conservation Practices

The amount of the proposed changes varies considerably for each of the conservation practice standards addressed in this notice. To fully understand the proposed changes, individuals are encouraged to compare these changes with each standard's current version, which can be found at: https://www.nrcs.usda.gov/wps/portal/nrcs/detailfull/national/technical/cp/ncps/?cid=nrcs143_026849.

NRCS is requesting comments on the following conservation practice standards:

• Conservation Cover (Code 327);

• Emergency Animal Mortality Management (Code 368);

• Fishpond Management (Code 399);

• Forest Farming (Code 379);

• Irrigation System, Surface and Subsurface (Code 443);

• Land Reclamation, Landslide Treatment (Code 453);

• Mine Shaft and Adit Closing (Code 457);

• Pond (Code 378);

• Residue and Tillage Management, No Till (Code 329);

• Residue and Tillage Management, Reduced Till (Code 345);

• Subsurface Drain (Code 606);

• Tree/Shrub Pruning (Code 660);

• Vertical Drain (Code 630).

The following are highlights of some of the proposed changes to each standard:

Conservation Cover (Code 327): Minor revisions were made for improved organization and for clarity. The second purpose (Reduce ground and surface water quality degradation by nutrients and surface water quality degradation by sediment) was split into two separate purposes that are clearer and more succinct (Reduce sediment transport to surface water and Reduce ground water and surface water quality degradation by nutrients). The last purpose (Improve soil health) was changed to specifically focus on a measurable metric (Maintain or increase soil organic matter (OM) content). The language associated with the additional criteria was incorporated into the General Criteria section. We added three additional purposes (Improve soil aggregate stability, Improve habitat for soil organisms, and Reduce compaction) with Criteria sections added for both the purposes of Improve habitat for soil organisms and Reduce compaction.

Emergency Animal Mortality Management (Code 368): One of the Emergency Animal Mortality Management purposes was separated into two purposes. The two new purposes now address surface water and ground water separately. Minor wording changes were made to the Criteria and Considerations sections for clarity and specificity. Changes were made to the Operation and Maintenance section to add specific items for burial and add more items to composting. New references were added to the References section.

Fishpond Management (Code 399): There were no major changes to this standard. The three purposes were combined into one. Three additional considerations were added regarding addition of submerged habitat, removal of accumulated debris or sediment, and use of biological and/or mechanical methods to control nuisance aquatic species. The References section was updated to delete outdated references and include new documents.

Forest Farming (Code 379): The practice name was changed from “Multi-Story Cropping” to Forest Farming to reflect technical and popular literature. Forest Farming also aligns with other federal agencies (USDA Forest Service, Agricultural Research Service), non-government organizations (Savanna Institute, National Association of State Foresters), technical assistance, and outreach efforts. Definition and purposes were restructured and expanded to align with the new name and resource concerns. Minor revisions were made for improved organization and for clarity to the Criteria, Considerations, Plans and specifications, Operation and Maintenance, and References sections.

Irrigation System, Surface and Subsurface (Code 443): Minor revisions were made for improved organization and for clarity. The Definition section was simplified to remove the extended list of example components described in the Criteria section. Maximum pipeline velocity was reduced from 7 feet per second (fps) to 5 fps to make it consistent with other NRCS conservation practice standards. We added the utility location responsibility statement.

Land Reclamation, Landslide Treatment (Code 453): Formatting and writing style were updated to meet current agency requirements resulting in minor revisions for clarity and readability. Relatively minor technical additions were included in the Criteria and Considerations sections. Lists of required items were added to the Plans and Specifications and Operation and Maintenance sections. References were updated.

Mine Shaft and Adit Closing (Code 457): Formatting and writing style were updated to meet current agency requirements resulting in minor revisions for clarity and readability. In the Criteria section, the Safety subsection was reorganized to emphasize testing and personnel entry requirements. New subsections entitled “Bats and other wildlife”, “Discharge”, and “Monuments” were added to provide new guidance. The Report subsection was moved to the Plans and Specifications section where the list was expanded.

Pond (Code 378): Minor revisions were made for improved organization and for clarity in response to the availability of new information. Minor revisions were made to Table 1 to keep the data within the scope of the practice standard. We added a utility location responsibility statement to the General Criteria section. Changes were made to the Criteria Applicable to Embankment Ponds section to Filter diaphragms for improved explanation. NRCS would welcome comments regarding use of anti-seep collars for this practice.

Residue and Tillage Management, No Till (Code 329): Minor revisions were made for improved organization and for clarity. We added additional purposes relating to Soil Health Resource Concerns. We added Additional criteria for the added purpose of Soil Health. We added additional wording to the Considerations section to clarify Soil Health management principles. We updated the Plans and Specifications and the References sections.

Residue and Tillage Management, Reduced Till (Code 345): We added additional purposes relating to Soil Health Resource Concerns. Minor revisions were made for improved organization and for clarity. We added additional criteria for the added purposes for Soil Health. We added additional wording to the Considerations section to clarify Soil Health management principles. We updated the References section.

Subsurface Drain (Code 606): Formatting and writing style were updated to meet current agency requirements. The definition was expanded to address “soil water conditions,” rather than just “excess water.” An additional purpose of addressing animal health and productivity due to adverse soil conditions was added. The Conditions Where Practice Applies section was revised to encompass “adverse” soil conditions, rather than specifically the “wet” condition. Wetland conservation has been elevated to the General Criteria subsection. Filter and envelope terminology has been revised to align with recently released NEH 650, Chapter 14, Drainage.

Tree/Shrub Pruning (Code 660): Purpose and Criteria sections were further refined. Criteria were adjusted to match changes in purposes. Considerations and Plans and Specifications sections were further refined. New references were added.

Vertical Drain (Code 630): There are no changes to the criteria and only minor wording changes have been made that do not change the meaning of the conservation practice standards.

Louis Aspey,
Associate Chief, Natural Resources Conservation Service.

[FR Doc. 2022-00853 Filed 1-18-22; 8:45 am]

BILLING CODE 3410-16-P